SOCIAL SECURITY ADMINISTRATION

20 CFR Part 404

[Docket No. SSA-2009-0037]

RIN 0960-AG91

Revised Medical Criteria for Evaluating Skin Disorders

AGENCY: Social Security Administration.

ACTION: Advance Notice of Proposed Rulemaking; Correction.

SUMMARY: This document corrects the Docket No. to the Advance Notice of Proposed rulemaking that published in the Federal Register on November 10, 2009, regarding the request for comments on whether and how we should revise the criteria in our Listing of Impairments for evaluating skin disorders in adults and children. In that document, we cited the incorrect docket number for the Advance Notice of Proposed Rulemaking.

DATES: To be sure that we consider your comments, we must receive them by no later than January 11, 2010.

FOR FURTHER INFORMATION CONTACT: Jane Deweib, Social Insurance Specialist, Office of Medical Listings Improvement, Social Security Administration, 6401 Security Boulevard, Baltimore, Maryland 21235-6401, (410) 965-1020.

SUPPLEMENTARY INFORMATION:

Correction

The Advance Notice of Proposed Rulemaking published on November 10, 2009 (74 FR 57972) showed a Docket No. of SSA-2009-0057. The correct Docket No. is SSA-2009-0037.

In FR Doc. E9-27033 appearing on page 57972 in the Federal Register of Tuesday, November 10, 2009, make the following corrections in the Headings and the Addresses sections. On page 57972, in the second column, in the Headings section change “Docket No. SSA-2009-0057” to “Docket No. SSA-2009-0037.” In the third column, the eighth line of the first paragraph under “Addresses” change “Docket No. SSA-2009-0057” to “Docket No. SSA-2009-0037.” In the third column, the seventh line of the third paragraph titled “1. Internet” change “Docket No. SSA-2009-0057” to “Docket No. SSA-2009-0037.”

Dated November 20, 2009.
Dean Landis,
Associate Commissioner for Regulations, Social Security Administration.

[FR Doc. E9-28367 Filed 11-27-09; 8:45 am]

BILLING CODE 4191-02-P